FEDERAL ELECTION COMMISSION

Sunshine Act Meeting

AGENCY: Federal Election Commission.

CANCELLATIONS OF PREVIOUSLY ANNOUNCED MEETINGS: Tuesday, October 2, 2001 at 10 a.m., meeting closed to the public.

Thursday, October 4, 2001 at 10 a.m., meeting open to the public.

DATE & TIME: Wednesday, October 10, 2001 at 10 a.m.

PLACE: 999 E Street, NW., Washington, DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Thursday, October 11, 2001 at 10 a.m.

PLACE: 999 E. Street, NW., Washington, DC (ninth floor).

STATUS: This meeting will be open to the public.

ITEMS TO BE DISCUSSED:

Correction and Approval of Minutes.

Draft Advisory Opinion 2001-14: Los Angeles County Democratic Central Committee by counsel, Laurence S. Zakson.

Revised draft Advisory Opinion 2001-12: (Tentative) Democratic Party of Wisconsin by Linda Honold, Chairperson.

Administrative Matters.

PERSON TO CONTACT FOR INFORMATION: Mr. Ron Harris, Press Officer, Telephone: (202) 694-1220.

Mary W. Dove,
Secretary of the Commission.

[FR Doc. 01-24993 Filed 10-2-01; 11:10 am]

BILLING CODE 6715-01-M